Title 3—

The President

Proclamation 10570 of May 3, 2023

National Day of Prayer, 2023

By the President of the United States of America

A Proclamation

In periods of peace and prosperity and in times of struggle and strife, countless Americans turn to prayer to seek guidance, bolster our faith, and brace our spirits when we need it most. Prayer is both a personal and communal act—composed of our most intimate thoughts and a practice observed by multitudes across our diverse Nation in every language, culture, religion, and belief system. On this National Day of Prayer, we recognize the profound power of prayer, grounded in deep humility and hope.

The right to pray is enshrined in our Constitution and stamped firmly in the American tradition. The belief that prayer can move mountains is, at its core, a belief in making the impossible possible. There is nothing more American than believing in the endless possibilities of what we can do when we do it together.

Throughout our history, prayer has empowered moral movements and fueled efforts to strengthen our democracy. It was deeply rooted in the fight to abolish slavery and the expansion of voting rights and voter access. And it continues to compel us to uphold our founding creed that all of us are created equal, are made in the image of God, and deserve to be treated with dignity and equality throughout our lives.

We will never fully know how prayer has quietly influenced every aspect of American life—bringing comfort to service members on the battlefield, grounding the spirits of astronauts in space, guiding the healing hands of medical professionals tending to our loved ones, and fortifying the faiths of millions of worshippers in every corner of our Nation. There is hardly an aspect of American life that is not touched by the silent supplications of prayer to fulfill our hopes and our aspirations.

Earlier this year, I was honored to speak at a Sunday service at the Reverend Dr. Martin Luther King, Jr.'s Ebenezer Baptist Church in Atlanta, now pastored by Senator Raphael Warnock. In that sacred place, praying and contemplating Dr. King's moral vision of a “Beloved Community,” we were reminded that so much more unites us than divides us. We are all bound together by our love of country and our belief in democracy. Today, I pray that we can see each other as we should: not as enemies but as neighbors, and not as adversaries but as fellow Americans and human beings. Only when we see ourselves in each other will justice, as scripture tells us, “roll down like waters,” righteousness become “a mighty stream,” and America fulfill its true promise as a land of liberty and justice for all.

The Congress, by Public Law 100-307, as amended, has called on the President to issue each year a proclamation designating the first Thursday in May as a “National Day of Prayer.”

NOW, THEREFORE, I, JOSEPH R. BIDEN JR., President of the United States of America, by virtue of the authority vested in me by the Constitution and the laws of the United States, do hereby proclaim May 4, 2023, as a National Day of Prayer. I call upon the citizens of our Nation to give thanks, in accordance with their own faith and conscience, for our many freedoms and blessings, and I invite all people of faith to join me in asking for God's continued guidance, mercy, and protection.

IN WITNESS WHEREOF, I have hereunto set my hand this third day of May, in the year of our Lord two thousand twenty-three, and of the Independence of the United States of America the two hundred and forty-seventh.

[FR Doc. 2023-09867

Filed 5-5-23; 8:45 am]

Billing code 3395-F3-P